MERIT SYSTEMS PROTECTION BOARD

Privacy Act of 1974; Deletion of Privacy Act System of Records

AGENCY: Merit Systems Protection Board.

ACTION: Notice of intent to delete and existing system of records.

SUMMARY: The Merit Systems Protection Board (MSPB) publishes this document pursuant to the requirements of the Privacy Act of 1974 at 5 U.S.C. 552a to inform the public that it will no longer maintain records in the system formerly known as MSPB/Internal-4 by the name or personal identifier of the record subject. Names and personal identifiers will be deleted for all existing and future documents maintained in the OAC Decision Data Base.

EFFECTIVE DATE: June 7, 2000.

ADDRESS: Office of the Clerk of the Board, U.S. Merit Systems Protection Board, 1120 Vermont Avenue, NW., Washington, DC 20419.

FOR FURTHER INFORMATION CONTACT: Michael H. Hoxie, (202) 653-7200.

SUPPLEMENTARY INFORMATION: By Federal Register Notice of July 2, 1996 (61 FR 34448) the Board announced a new system of records, Office of Appeals Counsel Decision Data Base, MSPB/Internal-4. The categories of records to be maintained in the system included advisory memoranda prepared by the Office of Appeals Counsel for the Board of individual members of the Board and instructions from members of the Board regarding the preparation of decisions for Board issuance. These records were to contain individual appellant's names, and could also contain social security numbers, home addresses, veterans status, race, sex, national origin and disability status data.

The Board hereby announces its intention to delete all names and personal identifiers from the records now maintained in this data base, and from any future records placed in the data base. Henceforth, the records in this data base will be retrieved by legal or factual issues. No personal information associated with any individual will be maintained.

Dated: June 1, 2000.
Robert E. Taylor,
Clerk of the Board.

[FR Doc. 00-14310 Filed 6-6-00; 8:45 am]

BILLING CODE 7400-01-M